DEPARTMENT OF DEFENSE

Office of the Secretary

Federal Advisory Committee; Air University Board of Visitors; Charter Renewal

AGENCY: Department of Defense (DoD).

ACTION: Renewal of Federal advisory committee.

SUMMARY: Under the provisions of the Federal Advisory Committee Act of 1972, (5 U.S.C. Appendix), the Government in the Sunshine Act of 1976 (5 U.S.C. 552b), and 41 CFR 102-3.50, the Department of Defense gives notice that it is renewing the charter for the Air University Board of Visitors (hereafter referred to as the Board).

FOR FURTHER INFORMATION CONTACT: Jim Freeman, Deputy Advisory Committee Management Officer for the Department of Defense, 703-601-6128.

SUPPLEMENTARY INFORMATION: The Board is a discretionary Federal advisory committee that shall provide independent advice and recommendations on educational, doctrinal, research policies and activities of Air University. The Board shall:

a. Review and evaluate the progress of the educational programs and the support activities of the university;

b. Review and evaluate the published statement of purpose, institutional policies, and financial resources of the university; and

c. Review and evaluate the educational effectiveness, quality of student learning, administrative and educational support services, and teaching, research and public service of the university.

The Secretary of the Air Force may act upon the Board's advice and recommendations.

The Board shall be comprised of not more than thirty-five members appointed by the Secretary of Defense who are eminent authorities in the field of air power, defense, management, leadership and academia. All Board member appointments shall be on an annual basis.

The Board's Chairperson shall be elected by a vote of the membership and approved by the Commander, Air University.

Board members appointed by the Secretary of Defense, who are not full-time or permanent part time Federal officers or employees, shall be appointed under the authority of 5 U.S.C. 3109, and serve as special government employees. In addition, all Board members, with the exception of travel and per diem for official travel, shall serve without compensation.

With DoD approval, the Board is authorized to establish subcommittees, as necessary and consistent with its mission. These subcommittees or working groups shall operate under the provisions of the Federal Advisory Committee Act of 1972, the Government in the Sunshine Act of 1976 (5 U.S.C. 552b), and other appropriate Federal statutes and regulations.

Such subcommittees or working groups shall not work independently of the chartered Board, and shall report all their recommendations and advice to the Board for full deliberation and discussion. Subcommittees or working groups have no authority to make decisions on behalf of the chartered Board; nor can they report directly to the Department of Defense or any Federal officers or employees who are not Board members.

Subcommittee members, who are not Board members, shall be appointed in the same manner as the Board members.

The Board shall meet at the call of the Board's Designated Federal Officer, in consultation with the Chairperson and Commander, Air University. The estimated number of Board meetings is four per year.

The Designated Federal Officer, pursuant to DoD policy, shall be a full-time or permanent part-time DoD employee, and shall be appointed in accordance with established DoD policies and procedures. In addition, the Designated Federal Officer is required to be in attendance at all meetings; however, in the absence of the Designated Federal Officer, the Alternate Designated Federal Officer shall attend the meeting.

Pursuant to 41 CFR 102-3.105(j) and 102-3.140, the public or interested organizations may submit written statements to the Air University Board of Visitors' membership about the Board's mission and functions. Written statements may be submitted at any time or in response to the stated agenda of planned meeting of Air University Board of Visitors.

All written statements shall be submitted to the Designated Federal Officer for the Air University Board of Visitors, and this individual will ensure that the written statements are provided to the membership for their consideration. Contact information for the Air University Board of Visitors Designated Federal Officer can be obtained from the GSA's FACA Database— https://www.fido.gov/facadatabase/public.asp.

The Designated Federal Officer, pursuant to 41 CFR 102-3.150, will announce planned meetings of the Air University Board of Visitors. The Designated Federal Officer, at that time, may provide additional guidance on the submission of written statements that are in response to the stated agenda for the planned meeting in question.

Dated: April 26, 2010.
Mitchell S. Bryman,
Alternate OSD Federal Register Liaison Officer, Department of Defense.

[FR Doc. 2010-10003 Filed 4-28-10; 8:45 am]

BILLING CODE 5001-06-P